DEPARTMENT OF COMMERCE

International Trade Administration

[A-570-951]

Certain Woven Electric Blankets From the People's Republic of China: Postponement of Preliminary Determination of Antidumping Duty Investigation

AGENCY: Import Administration, International Trade Administration, Department of Commerce.

DATES: Effective Date: November 20, 2009.

FOR FURTHER INFORMATION CONTACT: Drew Jackson or Howard Smith, AD/CVD Operations, Office 4, Import Administration, International Trade Administration, U.S. Department of Commerce, 14th Street and Constitution Avenue, NW., Washington, DC, 20230; telephone: (202) 482-4406 or (202) 482-5193, respectively.

SUPPLEMENTARY INFORMATION:

Postponement of Preliminary Determination

On July 20, 2009, the Department of Commerce (the “Department”) initiated the antidumping duty investigation of Certain Woven Electric Blankets from the People's Republic of China. See Certain Woven Electric Blankets From the People's Republic of China: Initiation of Antidumping Duty Investigation, 74 FR 37001 (July 27, 2009) (“Initiation Notice”). The Initiation Notice stated that, “{i}n accordance with section 733(b)(1)(A) of the Act, unless postponed, we will make our preliminary determination no later than 140 days after the date of this initiation.” Id. at 37004.

On November 5, 2009, the petitioner made a timely request pursuant to 19 CFR 351.205(e) for a 50-day postponement of the preliminary determination in this investigation. The petitioner requested postponement of the preliminary determination because “the number of factors of production is usually high in this case and will require additional time to research and analyze”. There are no compelling reasons to deny the petitioner's request. Therefore, the Department is postponing this preliminary determination under section 733 (c) (1)(A) of the Tariff Act of 1930, as amended (the “Act”) by 50 days from December 7, 2009 to January 26, 2010. The deadline for the final determination will continue to be 75 days after the date of the preliminary determination, unless extended.

This notice is issued and published pursuant to sections 733(c) (2) and 777(i)(1) of the Act and 19 CFR 351.205(f)(1).

Dated: November 16, 2009.
John M. Andersen,
Acting Deputy Assistant Secretary for Antidumping and Courtervailing Duty Operations.

[FR Doc. E9-27932 Filed 11-19-09; 8:45 am]

BILLING CODE 3510-DS-P